DEPARTMENT OF ENERGY

Office of Energy Efficiency and Renewable Energy

[Case No. RF-015]

Energy Conservation Program for Consumer Products: Notice of Petition for Waiver of General Electric Company (GE) From the Department of Energy Residential Refrigerator and Refrigerator-Freezer Test Procedure

AGENCY: Office of Energy Efficiency and Renewable Energy, Department of Energy.

ACTION: Notice of petition for waiver and request for comments.

SUMMARY: This notice announces receipt of and publishes the GE petition for waiver (hereafter, “petition”) from parts of the U.S. Department of Energy (DOE) test procedure for determining the energy consumption of electric refrigerators and refrigerator-freezers. Through this document, DOE is soliciting comments with respect to the GE petition.

DATES: DOE will accept comments, data, and information with respect to the GE petition until, but no later than June 1, 2010.

ADDRESSES: You may submit comments, identified by case number RF-015, by any of the following methods:

• Federal eRulemaking Portal: http://www.regulations.gov. Follow the instructions for submitting comments.

• E-mail: AS_Waiver_Requests@ee.doe.gov. Include either the case number [Case No. RF-015], and/or “GE Petition” in the subject line of the message.

• Mail: Ms. Brenda Edwards, U.S. Department of Energy, Building Technologies Program, Mailstop EE-2J/1000 Independence Avenue, SW., Washington, DC 20585-0121. Telephone: (202) 586-2945. Please submit one signed original paper copy.

• Hand Delivery/Courier: Ms. Brenda Edwards, U.S. Department of Energy, Building Technologies Program, 950 L'Enfant Plaza SW., Suite 600, Washington, DC 20024. Please submit one signed original paper copy.

Instructions: All submissions received must include the agency name and case number for this proceeding. Submit electronic comments in WordPerfect, Microsoft Word, Portable Document Format (PDF), or text (American Standard Code for Information Interchange (ASCII)) file format and avoid the use of special characters or any form of encryption. Wherever possible, include the electronic signature of the author. DOE does not accept telefacsimiles (faxes).

Any person submitting written comments must also send a copy of such comments to the petitioner, pursuant to Title 10 of the Code of Federal Regulations (10 CFR) 430.27(d). The contact information for the petitioner is: Earl F. Jones, Senior Counsel, GE Consumer & Industrial, Appliance Park 2-225, Louisville, KY 40225. E-mail: earl.f.jones@ge.com.

According to 10 CFR 1004.11, any person submitting information that he or she believes to be confidential and exempt by law from public disclosure should submit two copies to DOE: one copy of the document including all the information believed to be confidential, and one copy of the document with the information believed to be confidential deleted. DOE will make its own determination about the confidential status of the information and treat it according to its determination.

Docket: For access to the docket to review the background documents relevant to this matter, you may visit the U.S. Department of Energy, 950 L'Enfant Plaza SW., (Resource Room of the Building Technologies Program), Washington, DC, 20024, (202) 586-2945, between 9 a.m. and 4 p.m., Monday through Friday, except Federal holidays. Available documents include the following items: (1) This notice; (2) public comments received; (3) the petition for waiver; and (4) prior DOE rulemakings regarding similar central air conditioning and heat pump equipment. Please call Ms. Brenda Edwards at the above telephone number for additional information regarding visiting the Resource Room.

FOR FURTHER INFORMATION CONTACT: Dr. Michael G. Raymond, U.S. Department of Energy, Building Technologies Program, Mail Stop EE-2J, Forrestal Building, 1000 Independence Avenue, SW., Washington, DC 20585-0121. Telephone: (202) 586-9611. E-mail: Michael.Raymond@ee.doe.gov.

Ms. Betsy Kohl, U.S. Department of Energy, Office of the General Counsel, Mail Stop GC-71, Forrestal Building, 1000 Independence Avenue, SW., Washington, DC 20585-0103. Telephone: (202) 586-7796. E-mail: Elizabeth.Kohl@hq.doe.gov.

SUPPLEMENTARY INFORMATION:

I. Background

On December 19, 2006, GE filed a petition for waiver from the test procedure applicable to residential electric refrigerators and refrigerator-freezers set forth in Title 10 of the Code of Federal Regulations (10 CFR) part 430, subpart B, appendix A1. The products covered by the petition employ adaptive anti-sweat heaters, which detect and respond to temperature and humidity conditions, and then activate adaptive heaters as needed to evaporate excess moisture. GE's petition was published in the Federal Register on April 17, 2007. 72 FR 19189. DOE granted the GE petition in a decision & order published on February 27, 2008. 73 FR 10425.

II. Petition for Waiver of Test Procedure

On February 16, 2010, GE informed DOE that it has developed additional basic models with adaptive anti-sweat heater technology. GE asserted that these new products function and operate the same way as the basic models listed in GE's December 2006 petition for waiver with respect to the properties that made those products eligible for a waiver. GE requested that DOE grant a new waiver for these additional basic models. The following additional products are covered by the February 2010 waiver request:

All models with the letters CFCP1NIY****, CFCP1NIZ****, CFCP1ZIY****, PFCF1NFY****, PFCF1NFZ****, PFCF1PJY****, PFCF1PJZ****, PFCS1NFY****, PFCS1NFZ****, PFCS1PJY****, PFCS1PJZ****, PFQS5PJY****, PFSF5NFY****, PFSF5NFZ****, PFSF5PJY****, PFSF5PJZ****, PFSS5NFY****, PFSS5NFZ****, PFSS5PJY****, PFSS5PJZ****, PGCS1NFY****, PGCS1NFZ****, PGCS1PJY****, PGCS1PJZ****, PGSS5NFY****, PGSS5NFZ****, PGSS5PJY****, PGSS5PJZ****, ZFGB21HY****, ZFGB21HZ****, ZFGP21HY****, ZFGP21HZ****. (The asterisks, or wild cards, denote color or other features that do not affect energy performance.)

DOE notes that GE's February 2010 petition for waiver also includes an alternate test procedure for testing products equipped with adaptive anti-sweat heaters. The alternate test procedure submitted in the February 2010 petition is identical to the one contained in GE's December 2006 petition.

IV. Summary and Request for Comments

Through today's notice, DOE announces receipt of GE's petition for waiver from certain parts of the test procedure that apply to basic models of refrigerators and refrigerator-freezers with variable anti-sweat heater controls and adaptive heaters manufactured by GE. DOE is publishing GE's petition for waiver in its entirety pursuant to 10 CFR 430.27(b)(1)(iv). The petition contains no confidential information. The petition includes a suggested alternate test procedure and calculation methodology to determine the energy consumption of GE's specified refrigerators and refrigerator-freezers with adaptive anti-sweat heaters. DOE is interested in receiving comments from interested parties on all aspects of the petition, including the suggested alternate test procedure and calculation methodology. Pursuant to 10 CFR 430.27(b)(1)(iv), any person submitting written comments to DOE must also send a copy of such comments to the petitioner, whose contact information is included in the ADDRESSES section above.

Issued in Washington, DC, on April 22, 2010.
Cathy Zoi,
Assistant Secretary, Energy Efficiency and Renewable Energy.

February 16, 2010

Catherine R. Zoi, Assistant Secretary, Energy Efficiency & Renewable Energy, Department of Energy, 1000 Independence Ave., SW., Route Symbol: EE-1, Wash. DC 20585

Re: Case No. RF-007

Dear Ms. Assistant Secretary:

GE Consumer & Industrial, is an operating division of General Electric Co., (“GE”) is a leading manufacturer and marketer of household appliances, including, as relevant to this proceeding, refrigerators. In December 2006, GE filed a Petition for Waiver (“Petition”), which requested the then-Assistant Secretary grant it a waiver from certain parts of the test procedure promulgated by the U.S. Department of Energy (“DOE” or “the Department”) for determining refrigerator-freezer energy consumption for its new models of refrigerator-freezers. These innovative models were designed with adaptive anti-sweat heaters, i.e., anti-sweat heaters that respond to humidity conditions found in consumers' homes. Depending on ambient humidity conditions, the anti-sweat heaters would be turned on or off to prevent the accumulation of moisture inside the unit and on the outside of the case. And, because of their ability to sense humidity conditions, energy used to turn the anti-sweat heaters on can be better controlled.

As pointed out in GE's petition, the test conditions specified by DOE's test procedure neither define required humidity conditions nor otherwise take ambient humidity conditions into account in calculating energy consumption, the adaptive feature of GE's new model cannot be tested.

The Petition also pointed out that, if GE had tested its new smart-technology refrigerator per the test procedure the results would not have accurately measured the energy used by the new models.

The Assistant Secretary granted GE's waiver petition on February 27, 2008.¹ Thereafter, Whirlpool Corp. filed and was granted its waiver petition, ² as was Electrolux ³ and Samsung.⁴

¹ FR Vol. 73 10425 et seq.

² FR Vol. 73 39684 et seq. (July 10, 2008).

³ FR Vol. 74 66344 et seq. (December 15, 2009).

⁴ FR Vol. 74 66340 et seq. (December 15, 2009).

GE files this request for the sole purpose of asking that the relief granted in 2008 be extended to GE's new models of refrigerator-freezers.⁵ If this request must be treated as a new waiver petition pursuant to 10 C.F.R. § 430.27, then please accept it as such. If, however, this request can be treated as a request to amend the 2008 decision to cover the new models, then please accept it as such.

⁵ The new models are all models with the letters CFCP1NIY****, CFCP1NIZ****, CFCP1ZIY****, PFCF1NFY****, PFCF1NFZ****, PFCF1PJY****, PFCF1PJZ****, PFCS1NFY****, PFCS1NFZ****, PFCS1PJY****, PFCS1PJZ****, PFQS5PJY****, PFSF5NFY****, PFSF5NFZ****, PFSF5PJY****, PFSF5PJZ****, PFSS5NFY****, PFSS5NFZ****, PFSS5PJY****, PFSS5PJZ****, PGCS1NFY****, PGCS1NFZ****, PGCS1PJY****, PGCS1PJZ****, PGSS5NFY****, PGSS5NFZ****, PGSS5PJY****, PGSS5PJZ****, ZFGB21HY****, ZFGB21HZ****, ZFGP21HY****, ZFGP21HZ****. The asterisks, or wild cards, denote color or other features that do not affect energy performance.

GE incorporates herein the original humidity sensor waiver petition and has attached the petition hereto as Exhibit 1. Attached as Exhibit 2 is the Department's decision granting that petition.

We believe that granting our request will be another step in the Department's support of advanced technologies, technologies that promote innovation and strengthen consumer confidence in the reliability of the Department's test procedures

A favorable and speedy ruling on this matter is necessary as the new models are in development and scheduled for sale in the second quarter of 2010. GE will be injured in the market if approval is delayed. Hardship to GE would result if the benefits of the investment in developing the new models is delayed.

Respectfully submitted,

Earl F. Jones

Senior Counsel

GE Consumer & Industrial

Appliance Park 2-225

Louisville, KY 40225 earl.f.jones@ge.com

502-452-3164 (voice)

502-452-0395 (fax)

Affected Persons

Primary affected persons in the refrigerator-freezer category include BSH Home Appliances Corp. (Bosch-Siemens Hausgerate GmbH), Electrolux Home Products, Equator, Fisher & Paykel Appliances, Inc., Gorenje USA, Haier America Trading, L.L.C., Heartland Appliances, Inc., Kelon Electrical Holdings Col, Ltd., Liebherr Hausgerate, LG Electronics USA INC., Northland Corporation, Samsung Electronics America, Inc., Sanyo Fisher Company, Sears, Sub-Zero Freezer Company, U-Line, Viking Range, and Whirlpool Corporation. The Association of Home Appliance Manufacturers is also generally interested in energy efficiency requirements for appliances. Consumers' Union, ACEEE, NRDC and Alliance to Save Energy are not manufacturers but have an interest in this matter. GE will notify all these organizations as required by the Department's rules and provide them with a non-confidential version of this Petition.

[FR Doc. 2010-9969 Filed 4-28-10; 8:45 am]

BILLING CODE 6450-01-P